COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date deleted from the Procurement List: July 23, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404 or email CMTEFedReg@AbilityOne.gov.

SUPPLEMENTARY INFORMATION:

Deletions

On 2/17/2023, 3/3/2023, 3/10/2023, 3/17/2023, 3/24/2023, 3/31/2023, 4/7/2023, 4/28/2023, 5/5/2023, and 5/12/2023, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7045-01-484-1765—Mouse Pad, Calculator and Supply Storage Area, Black/Silver

7520-01-451-9180—Pen, Ballpoint, Retractable, Essential LVX, Red, Medium Point

7520-01-451-9181—Pen, Ballpoint, Retractable, Essential LVX, Blue, Medium Point

Designated Source of Supply: MidWest Enterprises for the Blind, Inc., Kalamazoo, MI

Contracting Activity: GSA/FAS ADMIN SVCS ACQUISITION BR (2, NEW YORK, NY

NSN(s)—Product Name(s):

7510-01-600-8026—Dated 2022 12-Month 2-Sided Laminated Wall Planner, 24″ x 37″

6645-01-467-8479—Clock, Wall, Black Custom Logo, 22″ Diameter

Designated Source of Supply: Chicago Lighthouse Industries, Chicago, IL

Contracting Activity: GSA/FAS ADMIN SVCS ACQUISITION BR (2, NEW YORK, NY

NSN(s)—Product Name(s):

7520-01-058-9976—Pen, Ballpoint, Stick, Hexagonal Barrel, Green, Medium Point

7510-00-161-6211—Cup, Supply, Self-Stacking, Clear

Designated Source of Supply: Alphapointe, Kansas City, MO

Contracting Activity: GSA/FAS ADMIN SVCS ACQUISITION BR (2, NEW YORK, NY

NSN(s)—Product Name(s):

7490-01-687-1136—Label Printer, Thermal, Extra Large, Black

Designated Source of Supply: Goodwill Vision Enterprises, Rochester, NY

Contracting Activity: GSA/FAS ADMIN SVCS ACQUISITION BR (2, NEW YORK, NY

NSN(s)—Product Name(s):

7530-00-142-9037—Roll, Teletype Paper, 8.44″ x 325′, White

Designated Source of Supply: CINCINNATI ASSOCIATION FOR THE BLIND AND VISUALLY IMPAIRED, Cincinnati, OH

Contracting Activity: GSA/FAS ADMIN SVCS ACQUISITION BR (2, NEW YORK, NY

NSN(s)—Product Name(s):

7520-01-680-7012—Pencil Sharpener, Electric, Horizontal, 6 Hole Adjustable, Grey and Green

7520-01-680-7013—Pencil Sharpener, Electric, Horizontal, 1 Hole, Heavy Duty, Grey

Designated Source of Supply: Blind Center of Nevada, Inc., Las Vegas, NV

Contracting Activity: GSA/FAS ADMIN SVCS ACQUISITION BR (2, NEW YORK, NY

NSN(s)—Product Name(s):

7520-01-619-0303—Portable Desktop Clipboard, 9½″ W x 1½ D x 13½″ H, Blue

7520-01-653-5888—Clipboard, Desktop, Reflective Orange, 9½″ W x 1½″ D x 13½″ H

7520-01-653-5890—Clipboard, Desktop, Reflective Red/Green, 9½″ W x 1½″ D x 13½″

Designated Source of Supply: LC Industries, Inc., Durham, NC

Contracting Activity: GSA/FAS ADMIN SVCS ACQUISITION BR (2, NEW YORK, NY

NSN(s)—Product Name(s):

7510-01-020-2806—Correction Fluid, Water-Based, Type I, White

7510-01-333-6242—Correction Fluid, Solvent-Based, Type III, White

Designated Source of Supply: The Lighthouse for the Blind, St. Louis, MO

Contracting Activity: GSA/FAS ADMIN SVCS ACQUISITION BR (2, NEW YORK, NY

NSN(s)—Product Name(s):

7530-01-425-4088—Writing Pad, Self-Stick, Repositionable, Phone Message, Assorted Pastel, 4″ x 5″

Designated Source of Supply: Goodwill Vision Enterprises, Rochester, NY

Contracting Activity: GSA/FAS ADMIN SVCS ACQUISITION BR (2, NEW YORK, NY

NSN(s)—Product Name(s):

7520-01-484-5256—Pen, Ball Point, Retractable, Ergonomic, MD Ergo Grip, Blue Barrel, Blue Ink, Medium Point

7520-01-451-9180—Pen, Ballpoint, Retractable, Essential LVX, Red, Medium Point

7520-01-451-9181—Pen, Ballpoint, Retractable, Essential LVX, Blue, Medium Point

7520-01-587-9632—Pen, Ballpoint, Retractable, 3 Pack, Blue, Medium Point

7520-01-587-9638—Pen, Ballpoint, Retractable, 3 Pack, Blue, Fine Point

7520-01-587-9645—Pen, Ballpoint, Retractable, Hybrid Ink, 6 Pack, Blue, Medium Point

7520-01-587-9646—Pen, Ballpoint, Retractable, Hybrid Ink, 6 Pack, Black, Medium Point

Designated Source of Supply: Industries for the Blind and Visually Impaired, Inc., West Allis, WI

Contracting Activity: GSA/FAS ADMIN SVCS ACQUISITION BR (2, NEW YORK, NY

NSN(s)—Product Name(s):

8115-01-499-0898—Shipping Box, Type II, Style D, Brown, XD-4, 6″ x 9″ x 4½″

Designated Source of Supply: Tarrant County Association for the Blind, Fort Worth, TX

Contracting Activity: GSA/FAS ADMIN SVCS ACQUISITION BR (2, NEW YORK, NY

NSN(s)—Product Name(s):

7520-01-620-4671—Hole Punch, Paper, High-capacity, 3-Hole, Adjustable, 28 sheet capacity, Black Base, Black Grip

Designated Source of Supply: AbilityFirst, Pasadena, CA

Contracting Activity: GSA/FAS ADMIN SVCS ACQUISITION BR (2, NEW YORK, NY

NSN(s)—Product Name(s):

7520-01-455-7233—Pen, Ballpoint, Stick Type, Recycled, Green Ink, Medium Point

Designated Source of Supply: West Texas Lighthouse for the Blind, San Angelo, TX

Contracting Activity: GSA/FAS ADMIN SVCS ACQUISITION BR (2, NEW YORK, NY

NSN(s)—Product Name(s):

7105-00-139-7573—Coffee Table, 36″ x 36″ x 17″, English Oak, Laminated Top

7105-00-139-7601—Coffee Table, 48″ x 22″ x 17″, English Oak, Laminated Top

7105-01-462-1067—Coffee Table, 36″ x 36″ x 17″, English Oak, Natural Finish

7105-01-462-1068—Coffee Table, 48″ x 22″ x 17″, English Oak, Natural Finish

7105-01-462-1069—End Table, 26″ x 18″ x 21″, English Oak, Natural Finish

7105-00-139-7598—End Table, 26″ x 18″ x 21″, English Oak, Laminated Top

7105-00-139-7600—Lamp Table, 27″ L x 27″ W x 21″ H, English Oak, Laminated Top

7105-01-462-1070—Lamp Table, 27″ L x 27″ W x 21″ H, English Oak, Natural Finish

Contracting Activity: GSA/FAS FURNITURE SYSTEMS MGT DIV, PHILADELPHIA, PA

NSN(s)—Product Name(s):

8340-00-262-2397—Cover, Tent

Designated Source of Supply: APEX, Inc., Anadarko, OK

Contracting Activity: DLA TROOP SUPPORT, PHILADELPHIA, PA

NSN(s)—Product Name(s):

7045-01-321-7456—Wipes, Alcohol, TX806 Isopropyl

Designated Source of Supply: North Central Sight Services, Inc., Williamsport, PA

Contracting Activity: DLA TROOP SUPPORT, PHILADELPHIA, PA

NSN(s)—Product Name(s):

8420-01-540-0611—Undershirt, Man's, Navy Blue, XX-Small

8420-01-540-0612—Undershirt, Man's, Navy Blue, X-Small

8420-01-540-0614—Undershirt, Man's, Navy Blue, Small

8420-01-540-1758—Undershirt, Man's, Navy Blue, Medium

8420-01-540-1759—Undershirt, Man's, Navy Blue, Large

8420-01-540-1760—Undershirt, Man's, Navy Blue, X-Large

8420-01-540-1761—Undershirt, Man's, Navy Blue, XX-Large

8420-01-540-1762—Undershirt, Man's, Navy Blue, XXX-Large

Designated Source of Supply: Winston-Salem Industries for the Blind, Inc, Winston-Salem, NC

Designated Source of Supply: The Arkansas Lighthouse for the Blind, Little Rock, AR

Contracting Activity: DLA TROOP SUPPORT, PHILADELPHIA, PA

NSN(s)—Product Name(s):

8415-01-575-4514—Jacket, Physical Fitness Uniform, Army, Long Sleeve, Universal Camouflage, Large/Long

8415-01-575-4427—Jacket, Physical Fitness Uniform, Army, Long Sleeve, Universal Camouflage, Large/Regular

8415-01-575-4246—Jacket, Physical Fitness Uniform, Army, Long Sleeve, Universal Camouflage, Large/Short

8415-01-575-4510—Jacket, Physical Fitness Uniform, Army, Long Sleeve, Universal Camouflage, Medium/Long

8415-01-575-4445—Jacket, Physical Fitness Uniform, Army, Long Sleeve, Universal Camouflage, Medium/Regular

8415-01-575-4051—Jacket, Physical Fitness Uniform, Army, Long Sleeve, Universal Camouflage, Medium/Short

8415-01-575-4508—Jacket, Physical Fitness Uniform, Army, Long Sleeve, Universal Camouflage, Small/Long

8415-01-575-4394—Jacket, Physical Fitness Uniform, Army, Long Sleeve, Universal Camouflage, Small/Regular

8415-01-575-4046—Jacket, Physical Fitness Uniform, Army, Long Sleeve, Universal Camouflage, Small/Short

8415-01-575-4515—Jacket, Physical Fitness Uniform, Army, Long Sleeve, Universal Camouflage, X-Large/Long

8415-01-575-4457—Jacket, Physical Fitness Uniform, Army, Long Sleeve, Universal Camouflage, X-Large/Regular

8415-01-575-4254—Jacket, Physical Fitness Uniform, Army, Long Sleeve, Universal Camouflage, X-Large/Short

8415-01-575-4502—Jacket, Physical Fitness Uniform, Army, Long Sleeve, Universal Camouflage, X-Small/Long

8415-01-575-4031—Jacket, Physical Fitness Uniform, Army, Long Sleeve, Universal Camouflage, X-Small/Short

8415-01-575-4518—Jacket, Physical Fitness Uniform, Army, LongS, Universal Camouflage, XX-Large/Long

8415-01-575-4434—Jacket, Physical Fitness Uniform, Army, Long Sleeve, Universal Camouflage, XX-Large/Regular

8415-01-575-4275—Jacket, Physical Fitness Uniform, Army, Long Sleeve, Universal Camouflage, XX-Large/Short

8415-01-575-4521—Jacket, Physical Fitness Uniform, Army, Long Sleeve, Universal Camouflage, XXX-Large/Long

8415-01-575-4466—Jacket, Physical Fitness Uniform, Army, Long Sleeve, Universal Camouflage, XXX-Large/Regular

8415-01-575-4288—Jacket, Physical Fitness Uniform, Army, Long Sleeve, Universal Camouflage, XXX-Large/Short

8415-01-575-4295—Jacket, Physical Fitness Uniform, Army, Long Sleeve, Universal Camouflage, X-Small/Regular

Designated Source of Supply: Blind Industries & Services of Maryland, Baltimore, MD

Designated Source of Supply: Winston-Salem Industries for the Blind, Inc, Winston-Salem, NC

Contracting Activity: DLA TROOP SUPPORT, PHILADELPHIA, PA

NSN(s)—Product Name(s):

8920-01-E62-5585—Rice, Brown, Whole Grain, Parboiled, Long Grain, CS/Four (4) Five (5) Pound Bags

Designated Source of Supply: VisionCorps, Lancaster, PA

Contracting Activity: DLA TROOP SUPPORT, PHILADELPHIA, PA

NSN(s)—Product Name(s):

7045-01-357-9939—Tape, Electronic Data

7045-01-240-4951—Mini-Cartridge, Data, 40 MB, 3½″

Designated Source of Supply: North Central Sight Services, Inc., Williamsport, PA

Contracting Activity: DLA TROOP SUPPORT, PHILADELPHIA, PA

NSN(s)—Product Name(s):

8455-01-113-2631—Qualification Badge, Air Assault, U.S. Army

Designated Source of Supply: Fontana Resources at Work, Fontana, CA

Contracting Activity: DLA TROOP SUPPORT, PHILADELPHIA, PA

NSN(s)—Product Name(s):

8955-01-E60-8859—Coffee, Roasted, Ground, 39 oz. bag, S&D

Designated Source of Supply: CW Resources, Inc., New Britain, CT

Contracting Activity: DLA TROOP SUPPORT, PHILADELPHIA, PA

NSN(s)—Product Name(s):

4820-00-052-4651—Valve, Ball, Piping

Designated Source of Supply: The Opportunity Center Easter Seal Facility—The Ala ES Soc, Inc., Anniston, AL

Contracting Activity: DLA LAND AND MARITIME, COLUMBUS, OH

NSN(s)—Product Name(s):

2540-00-741-6339—Curtain Assembly

2540-00-737-3311—Cushion, Seat Back

Designated Source of Supply: APEX, Inc., Anadarko, OK

Contracting Activity: DLA LAND AND MARITIME, COLUMBUS, OH

NSN(s)—Product Name(s):

2540-00-473-0111—Kit, Deep Water Fording

Designated Source of Supply: The Opportunity Center Easter Seal Facility—The Ala ES Soc, Inc., Anniston, AL

Contracting Activity: DLA LAND AND MARITIME, COLUMBUS, OH

NSN(s)—Product Name(s):

MR 11300—Water Bottle, Travel, Addison, 24 oz.

MR 13082—Water Bottle, Contigo, 24 oz

MR 13085—Tumbler, Kids, Contigo, 14 oz

MR 13089—Mug, Travel, Plastic, West Loop 2.0, 16 oz

Designated Source of Supply: Association for Vision Rehabilitation and Employment, Inc., Binghamton, NY

Contracting Activity: Defense Commissary Agency

NSN(s)—Product Name(s):

MR 13127—Colander, Plastic

Designated Source of Supply: CINCINNATI ASSOCIATION FOR THE BLIND AND VISUALLY IMPAIRED, Cincinnati, OH

Contracting Activity: Defense Commissary Agency

Service(s)

Service Type: Parts Machining Service

Mandatory for: Arizona Industries for the Blind, Phoenix, AZ; 515 N 51st Ave., #130; Phoenix, AZ

Mandatory for: DLA Wide (Off-Site—515 N 51st Ave., #130, Phoenix, AZ); 515 N 51st Ave., #130; Phoenix, AZ

Designated Source of Supply: Arizona Industries for the Blind, Phoenix, AZ

Contracting Activity: DEFENSE LOGISTICS AGENCY, DLA TROP SUPPORT C&E HARDWARE

Service Type: Parts Machining Service

Mandatory for: The Lighthouse for the Blind, Inc., Seattle, WA; 2601 South Plum; Seattle, WA

Mandatory for: DLA Wide (Off-Site—2601 South Plum St., Seattle, WA); 2601 South Plum St.; Seattle, WA

Designated Source of Supply: The Lighthouse for the Blind, Inc. (Seattle Lighthouse), Seattle, WA

Contracting Activity: DEFENSE LOGISTICS AGENCY, DLA TROP SUPPORT C&E HARDWARE

Service Type: Parts Machining Service

Mandatory for: WISCRAFT, Inc., Milwaukee, WI; 5316 West State Street; Milwaukee, WI

Mandatory for: DLA Wide (Off-Site—5316 West State St., Milwaukee, WI); 5316 West State Street; Milwaukee, WI

Designated Source of Supply: Wiscraft, Inc., Milwaukee, WI

Contracting Activity: DEFENSE LOGISTICS AGENCY, DLA TROP SUPPORT C&E HARDWARE

Service Type: Sourcing, Warehousing, Assembly and Kitting

Mandatory for: Montana Army National Guard, Fort Harrison, MT; 1956 MT Majo Street; Fort Harrison, MT

Designated Source of Supply: Industries for the Blind and Visually Impaired, Inc., West Allis, WI

Contracting Activity: DEPT OF THE ARMY, W7NK USPFO ACTIVITY MT ARNG

Service Type: Mailroom Support Services

Mandatory for: Internal Revenue Service Mailroom: 310 West Wisconsin Avenue; Milwaukee, WI

Designated Source of Supply: Industries for the Blind and Visually Impaired, Inc., West Allis, WI

Contracting Activity: TREASURY, DEPARTMENT OF THE, DEPT OF TREAS/

Service Type: Mailing Services

Mandatory for: Government Printing Office: 710 North Capitol & H Street NW: 710 North Capital & H Street; Washington, DC

Designated Source of Supply: Virginia Industries for the Blind, Charlottesville, VA

Contracting Activity: Government Printing Office

Service Type: Mailing Services

Mandatory for: Department of Housing and Urban Development; 52 Corporate Circle; Albany, NY

Designated Source of Supply: Northeastern Association of the Blind at Albany, Inc., Albany, NY

Contracting Activity: HOUSING AND URBAN DEVELOPMENT, DEPARTMENT OF, DEPT OF HOUSING AND URBAN DEVELOPMENT

Michael R. Jurkowski,
Acting Director, Business Operations.

[FR Doc. 2023-13352 Filed 6-22-23; 8:45 am]

BILLING CODE 6353-01-P